DEPARTMENT OF TRANSPORTATION

Federal Aviation Administration

14 CFR Part 39

[Docket No. FAA-2004-19795; Directorate Identifier 2004-NM-196-AD]

RIN 2120-AA64

Airworthiness Directives; Boeing Model 777-200 and -300 Series Airplanes

AGENCY: Federal Aviation Administration (FAA), DOT.

ACTION: Notice of proposed rulemaking (NPRM).

SUMMARY: The FAA proposes to adopt a new airworthiness directive (AD) for certain Boeing Model 777-200 and -300 series airplanes. This proposed AD would require replacing the existing halogen lamps in the cargo compartment light assemblies with new incandescent lamps, and installing warning and identification placards. This proposed AD is prompted by a report of an aft cargo fire during flight. We are proposing this AD to prevent a fire in the cargo compartment.

DATES: We must receive comments on this proposed AD by January 18, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2004-19795; the directorate identifier for this docket is 2004-NM-196-AD.

FOR FURTHER INFORMATION CONTACT: Technical information: Clint Jones, Aerospace Engineer, Cabin Safety and Environmental Systems Branch, ANM-150S, FAA, Seattle Aircraft Certification Office, 1601 Lind Avenue, SW., Renton, Washington 98055-4056; telephone (425) 917-6471; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19795; Directorate Identifier 2004-NM-196-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that an aft cargo fire occurred during flight on a Model 777-300 series airplane. The crew discharged the fire bottles and diverted the airplane. After landing, ground crew discovered a smoldering blanket in some passenger luggage in the bulk cargo compartment. Investigation indicated that the passenger luggage had been stuffed against the cargo light assembly, which uses a halogen lamp. The halogen lamp was identified as the source of the ignition, which apparently occurred when the cargo doors were open and the lights were on. The cargo lamps are off during flight, but during the flight the blanket continued to smolder and was detected by the cargo smoke detection system. The heat from halogen lamps in contact with cargo could result in ignition of the cargo.

The light assemblies in the cargo compartments on Model 777-200 series airplanes also use halogen lamps, so both airplane models are subject to the unsafe condition identified in this proposed AD.

Relevant Service Information

We have reviewed Boeing Special Attention Service Bulletin 777-33-0025, dated September 1, 2004. The service bulletin describes procedures for replacing the existing halogen lamps in the cargo compartment light assemblies with new incandescent lamps, and installing warning and identification placards for correct replacement lamps. Accomplishing the actions specified in the service information is intended to adequately address the unsafe condition.

The Boeing service bulletin refers to Honeywell Service Bulletin 15-0712-33-0001 as an additional source of service information for the lamp replacement. The latest version of that service bulletin is Revision 1, dated October 15, 2004.

FAA's Determination and Requirements of the Proposed AD

We have evaluated all pertinent information and identified an unsafe condition that is likely to exist or develop on other airplanes of this same type design. Therefore, we are proposing this AD, which would require accomplishing the actions specified in the service information described previously, except as discussed below.

Differences Between the Proposed AD and the Service Bulletin

Boeing Special Attention Service Bulletin 777-33-0025 recommends replacing the lamps within 36 months, but this proposed AD would require an 18-month compliance time. Since the service bulletin was issued, we have re-evaluated the unsafe condition and determined that the shortened compliance time is necessary to satisfy all concerns regarding safety for the affected fleet. We have advised the manufacturer of the need to require an 18-month compliance time in lieu of the 36-month recommendation noted in the service bulletin. The manufacturer has acknowledged this adjustment. In developing the appropriate compliance time for this AD, we considered the urgency associated with the unsafe condition, the availability of required parts, and the practical aspect of replacing the lamps within a period of time that corresponds to the normal maintenance schedules of most affected operators. According to the lamp vendor, an adequate number of required parts will be available to modify the U.S. fleet within 18 months. We have determined that this compliance time represents the most appropriate time allowable for the affected airplanes to continue to safely operate before the modification is done, and will allow most affected operators to replace the lamps during scheduled maintenance.

Costs of Compliance

There are about 474 airplanes of the affected design in the worldwide fleet. The following table provides the estimated costs for U.S. operators to comply with this proposed AD.

Estimated Costs
Airplane model | Work hours | Average hourly labor rate | Parts | Cost per airplane | Number of U.S.-registered airplanes | Fleet cost
777-200 (Group 1) | 5 | $65 | No cost to operators | $325 | 133 | $43,225
777-300 (Group 2) | 7 | 65 | No cost to operators | *455 | (**) | (*)
*The figures in this table would apply if an affected Model 777-300 series airplane is imported and placed on the U.S. Register in the future.
**None currently.

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in Subtitle VII, Part A, Subpart III, Section 44701, “General requirements.” Under that section, the FAA is charged with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19795; Directorate Identifier 2004-NM-196-AD.

Comments Due Date

(a) The Federal Aviation Administration (FAA) must receive comments on this AD action by January 18, 2005.

Affected ADs

(b) None.

Applicability

(c) This AD applies to Boeing Model 777-200 and -300 series airplanes, certificated in any category; as listed in Boeing Special Attention Service Bulletin 777-33-0025, dated September 1, 2004.

Unsafe Condition

(d) This AD was prompted by a report of an aft cargo fire during flight. We are issuing this AD to prevent a fire in the cargo compartment.

Compliance

(e) You are responsible for having the actions required by this AD performed within the compliance times specified, unless the actions have already been done.

Lamp Replacement

(f) Within 18 months after the effective date of this AD, replace all halogen lamps in the cargo compartment ceiling light assemblies with new incandescent lamps, and install warning and identification placards; in accordance with Boeing Special Attention Service Bulletin 777-33-0025, dated September 1, 2004.

Parts Installation

(g) As of the effective date of this AD, no person may install a halogen bulb, part number 9203, in any airplane cargo ceiling light assembly.

Alternative Methods of Compliance (AMOCs)

(h) The Manager, Seattle Aircraft Certification Office, FAA, has the authority to approve AMOCs for this AD, if requested in accordance with the procedures found in 14 CFR 39.19.

Issued in Renton, Washington, on November 26, 2004.
Ali Bahrami,
Manager, Transport Airplane Directorate, Aircraft Certification Service.

[FR Doc. 04-26665 Filed 12-2-04; 8:45 am]

BILLING CODE 4910-13-P